DEPARTMENT OF THE INTERIOR

National Park Service

[NPS-WASO-NRNHL-17869; PPWOCRADI0, PCU00RP14.R50000]

National Register of Historic Places; Notification of Pending Nominations and Related Actions

Nominations for the following properties being considered for listing or related actions in the National Register were received by the National Park Service before March 7, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by April 15, 2015. Before including your address, phone number, email address, or other personal identifying information in your comment, you should be aware that your entire comment—including your personal identifying information—may be made publicly available at any time. While you can ask us in your comment to withhold your personal identifying information from public review, we cannot guarantee that we will be able to do so.

Dated: March 13, 2015.
J. Paul Loether,
Chief, National Register of Historic Places/National Historic Landmarks Program.

IOWA

Polk County

Equitable Life Insurance Company of Iowa Building, 604 Locust St. & 316 6th Ave., Des Moines, 15000154

MARYLAND

Allegany County

Evergreen, 15603 Trimble Rd. NW., Mount Savage, 15000155

MICHIGAN

Allegan County

Francis Metallic Surfboat, 130 W. Center St., Douglas, 15000156

Branch County

Beardsley, Ezra E. and Florence (Holmes), House, 1063 Holmes Rd., Bronson Township, 15000157

Jackson County

Otsego Hotel, 102-106 Francis St., Jackson, 15000158

Wayne County

Temple Baptist Church—King Solomon Baptist Church, 6102 & 6125 14th St., Detroit, 15000159

MONTANA

Yellowstone County

Graf, Arnold, House, 633 Highland Park Dr., Billings, 15000160

NORTH CAROLINA

Cabarrus County

Coleman—Franklin—Cannon Mill, 625 Main St. SW., Concord, 15000161

Duplin County

Carter—Simmons House, 218 Coy Smith Rd., Albertson, 15000162

Guilford County

Carolina Casket Company, 812 Millis St., High Point, 15000163

Henderson County

Sewell, Dillard B. and Georgia, House, 64 Clipper Ln., Penrose, 15000164

Orange County

Chapel Hill Historic District (Boundary Increase), Roughly bounded by Carolina Ave., North, Cameron & Columbia Sts., Chapel Hill, 15000165

Polk County

Stone Hedge, 222 Stone Hedge Ln., Tryon, 15000166

OREGON

Multnomah County

Ott, David and Marianne, House, 2075 Palmblad Rd., Gresham, 15000167

A request for removal has been received for the following resource:

MICHIGAN

Bay County

Bay City Bascule Bridge, (Highway Bridges of Michigan MPS) M-13/M-84 over East Channel of Saginaw R., Bay City, 99001465

[FR Doc. 2015-07276 Filed 3-30-15; 8:45 am]

BILLING CODE 4312-51-P